DEPARTMENT OF STATE

OFFICE OF THE UNITED STATES TRADE REPRESENTATIVE

[Public Notice 7893]

Notice of Termination of United States—Bolivia Bilateral Investment Treaty

AGENCY: Department of State and Office of the United States Trade Representative.

ACTION: Notice.

SUMMARY: The Government of Bolivia has delivered to the United States a notice of termination for the bilateral investment treaty between the two countries, a termination that will take effect on June 10, 2012. As of June 10, 2012, the treaty will cease to have effect except that it will continue to apply for another 10 years to covered investments existing at the time of termination (June 10, 2012).

FOR FURTHER INFORMATION CONTACT: Michael Tracton, Senior Negotiator for Investment Treaties at the Department of State, at (202) 736-4060, or Jai Motwane, Director for Services and Investment at the Office of the United States Trade Representative, at (202) 395-9580.

SUPPLEMENTARY INFORMATION: Bolivia delivered notice on June 10, 2011, that it was terminating the “Treaty Between the Government of the United States of America and the Government of the Republic of Bolivia Concerning the Encouragement and Reciprocal Protection of Investment” (“the Treaty”). Pursuant to the terms of the Treaty, termination is to take effect one year from the date of that notice.

The Treaty was signed in Santiago, Chile on April 17, 1998, and entered into force on June 6, 2001. Under the terms of the Treaty, either Party may terminate the Treaty at the end of an initial ten-year period, or any time thereafter, by giving one year's written notice to the other Party. The provisions of the Treaty will continue to apply for an additional 10 years to all covered investments existing at the time of termination. The Treaty provides protections to cross-border investment between the two countries and the option to resolve investment disputes through international arbitration. The Department of State and the Office of the U.S. Trade Representative, which co-lead the U.S. bilateral investment treaty program, are providing this notice so that existing or potential U.S. investors in Bolivia can factor the termination of the Treaty into their business planning, as appropriate.

Dated: May 14, 2012.
Todd Kushner,
Deputy Director, Department of State.
Dated: May 14, 2012.
Jonathan Kallmer,
Deputy Assistant U.S. Trade Representative, Office of the U.S. Trade Representative.

[FR Doc. 2012-12494 Filed 5-22-12; 8:45 am]

BILLING CODE 4710-07-P